DEPARTMENT OF ENERGY

Federal Energy Regulatory Commission

[Docket No. EC05-29-000, et al.]

PNM Resources, Inc., et al.; Electric Rate and Corporate Filings

December 29, 2004.

The following filings have been made with the Commission. The filings are listed in ascending order within each docket classification.

1. PNM Resources, Inc., SW Acquisition, L.P., TNP Enterprises, Inc., Texas-New Mexico Power Company

[Docket EC05-29-000]

Take notice that on December 23, 2004, PNM Resources, Inc. (PNM Resources), SW Acquisition, L.P. (SW Acquisition), TNP Enterprises, Inc. (TNP Enterprises), and Texas-New Mexico Power Company (TNMP) tendered for filing an application pursuant to section 203 of the Federal Power Act requesting all necessary Commission authorizations related to the sale by SW Acquisition to PNM Resources of 100 percent of the outstanding common shares of TNP Enterprises, the direct parent of, among other entities, TNMP.

Comment Date: 5 p.m. Eastern Time on January 28, 2005.

2. Calpine Bethpage 3, LLC

[Docket No. EG05-26-000]

Take notice that on December 22, 2004, Calpine Bethpage 3, LLC (Applicant), c/o Calpine Corporation, Two Atlantic Avenue, Third Floor, Boston, MA 02110, filed with the Commission an application for determination of exempt wholesale generator status pursuant to part 365 of the Commission's regulations.

Applicant, a Delaware limited liability company, proposes to operate a 79.9 megawatt natural gas-fired combined cycle electric generating facility located in the Town of Oyster Bay, Nassau County, New York.

Applicant states that copies of the application were served upon the United States Securities and Exchange Commission and New York State Public Service Commission.

Comment Date: 5 p.m. Eastern Time on January 12, 2005.

3. Bethpage Energy Center

[Docket No. EG05-27-000]

Take notice that on December 22, 2004, Bethpage Energy Center 3, LLC (Applicant), c/o Calpine Corporation, Two Atlantic Avenue, Third Floor, Boston, MA 02110, filed with the Commission an application for determination of exempt wholesale generator status pursuant to part 365 of the Commission's regulations.

Applicant, a Delaware limited liability company, proposes to own a 79.9 megawatt natural gas-fired combined cycle electric generating facility located in the Town of Oyster Bay, Nassau County, New York.

Applicant further states that copies of the application were served upon the United States Securities and Exchange Commission and New York State Public Service Commission.

Comment Date: 5 p.m. Eastern Time on January 12, 2005.

4. Southern Company Services, Inc.

[Docket No. ER02-851-018]

Take notice that on December 22, 2004, Southern Company Services, Inc., acting on behalf of Alabama Power Company, Georgia Power Company, Gulf Power Company, Mississippi Power Company, and Savannah Electric and Power Company (Southern Companies), made a filing in connection with their payment of refunds on charges for transmission service taken under Southern Companies' Open Access Transmission Tariff consistent with certain commitments to this effect in previous filings with the Commission.

Southern Companies state that a copy of the filing has been served on all customers affected by the charge adjustments as well as all parties to FERC Docket No. ER02-851.

Comment Date: 5 p.m. Eastern Time on January 12, 2005.

5. MGE Power West Campus LLC

[Docket No. ER05-233-001]

Take notice that on December 22, 2004, MGE Power West Campus LLC (West Campus) filed additional information regarding its Power Purchase Agreement Providing for Sales of Test Power between West Campus and Madison Gas and Electric Company filed on November 18, 2004 in Docket No. ER05-233-000.

West Campus states that copies of the filing were served upon the Public Service Commission of Wisconsin.

Comment Date: 5 p.m. Eastern Time on January 7, 2005.

6. Pacific Gas and Electric Company

[Docket No. ER05-367-000]

Take notice that on December 22, 2004, Pacific Gas and Electric Company (PG&E) submitted a revised Grid Management Charge Pass-Through Tariff (GMC-PTT). PG&E states that this filing seeks to recover the costs proposed in the California Independent System Operator Corporation's (California ISO) GMC filing in Docket No. ER05-346-000 on December 15, 2004. PG&E requests an effective date of January 1, 2005.

PG&E states that copies of this filing have been served upon the California Public Utilities Commission, the California ISO and all affected customers.

Comment Date: 5 p.m. Eastern Time on January 12, 2005.

7. American Transmission Company LLC, Midwest Independent Transmission System Operator, Inc.

[Docket No. ER05-368-000]

Take notice that on December 22, 2004, American Transmission Company LLC, by its corporate manager, ATC Management Inc. (collectively, ATCLLC) and the Midwest Independent Transmission System Operator, Inc. (Midwest ISO) tendered for filing proposed changes to its Open Access Transmission Tariff, FERC Electric Tariff, Second Revised Volume No. 1, to revise its formula rate to reflect changes to certain rate calculations applicable to ATCLLC rate zone (Zone 1). ATCLLC and the Midwest ISO request waiver of the Commission's notice requirements to allow the proposed changes to be made effective on January 1, 2005.

ATCLLC and the Midwest ISO seek waiver of the Commission's regulations, 18 CFR 385.2010 (2000) with respect to service on all required parties. The Midwest ISO states it has posted this filing on its Internet site at http://www.midwestiso.org, and the Midwest ISO or ATCLLC will provide hard copies to any interested parties upon request.

Comment Date: 5 p.m. Eastern Time on January 12, 2005.

8. Connexus Energy

[Docket No. ER05-369-000]

Take notice that on December 22, 2004, Connexus Energy submitted revised sheets to Connexus Energy's Electric Rate Schedule FERC No. 1. Connexus Energy states that the revised sheets effect rate changes under Connexus Energy's contract with Elk River Municipal Utilities. Connexus Energy requests waiver of the Commission's notice requirement to allow a January 1, 2005 effective date.

Connexus Energy states that a copy of the filing was served upon Elk River Municipal Utilities.

Comment Date: 5 p.m. Eastern Time on January 12, 2005.

9. California Independent System Operator Corporation

[Docket No. ER05-370-000]

Take notice that on December 22, 2004, the California Independent System Operator Corporation (ISO) submitted an informational filing in accordance with Article IX, section B of the Stipulation and Agreement approved by the Commission on May 28, 1999, California Independent System Operator Corp., 87 FERC ¶ 61,250 (1999) (Stipulation and Agreement). ISO states that this provision requires the ISO to provide on a confidential basis to the Commission: (1) Information regarding any notice from an RMR Unit requesting a change of Condition; (2) the date the chosen Condition will begin; and (3) if the change is from Condition 2, the applicable level of Fixed Option Payment. ISO further states as required by the provision, it has provided notice of the changes of condition described in the informational filing (subject to the applicable Non-Disclosure and Confidentiality Agreement in the RMR Contract) to the designated RMR contact persons at the California Public Utilities Commission, the California Electricity Oversight Board, the applicable Responsible Utilities, and the relevant RMR Owners.

Comment Date: 5 p.m. Eastern Time on January 12, 2005.

10. California Independent System Operator Corporation

[Docket No. ER05-372-000]

Take notice that on December 22, 2004, the California Independent System Operator Corporation (ISO) submitted an informational filing as to the ISO's revised transmission Access Charge rates for the period of December 22, 2004 through December 31, 2004 to implement the addition of the Path 15 Upgrade project to the ISO Controlled Grid, and Trans-Elect NTD Path 15, LLC and the Western Area Power Administration—Sierra Nevada Region as Participating TOs.

The ISO states that this filing has been served upon the Public Utilities Commission of the State of California, the California Energy Commission, the California Electricity Oversight Board, the Participating Transmission Owners, and upon all parties with effective Scheduling Coordinator Service Agreements under the ISO Tariff. The ISO states that it is posting the filing on the ISO Home Page.

Comment Date: 5 p.m. Eastern Time on January 12, 2005.

11. Reliant Energy Etiwanda, Inc.

[Docket No. ER05-373-000]

Take notice that on December 22, 2004, Reliant Energy Etiwanda. Inc. (Etiwanda) tendered for filing a letter agreement (Waiver Letter) setting forth certain waivers that affect its Rate Schedule FERC No. 2, Must-Run Service Agreement. Etiwanda states that the Waiver Letter waives certain provisions of the Must-Run Service Agreement in light of the Etiwanda's execution of a multi-year tolling agreement with Southern California Edison Company to commence January 1, 2005. Etiwanda requests that this filing be made effective January 1, 2005.

Etiwanda states that this filing has been served upon the CAISO, the California Public Utilities Commission, the California Electricity Oversight Board and Southern California Edison Company.

Comment Date: 5 p.m. Eastern Time on January 12, 2005.

12. ISO New England Inc., Bangor Hydro-Electric Company, Central Maine Power Company, NSTAR Electric & Gas Corporation, on Behalf of Its Affiliates Boston Edison Company, Commonwealth Electric Company, Cambridge Electric Light Company, and Canal Electric Company, New England Power Company, Northeast Utilities Service Company, on Behalf of Its Operating Company Affiliates The Connecticut Light and Power Company, Western Massachusetts Electric Company, Public Service Company of New Hampshire and Holyoke Water Power Company, The United Illuminating Company, Fitchburg Gas and Electric Light Company, Unitil Energy Systems, Inc., Vermont Electric Power Company, Central Vermont Public Service Corporation, Green Mountain Power Corporation, Vermont Electric Cooperative, Florida Power & Light Company—New England Division

[Docket No. ER05-374-000]

Take notice that on December 22, 2004, ISO New England Inc. (the ISO) and Bangor Hydro-Electric Company; Central Maine Power Company; NSTAR Electric & Gas Corporation, on behalf of its affiliates Boston Edison Company, Commonwealth Electric Company, Cambridge Electric Light Company, and Canal Electric Company; New England Power Company; Northeast Utilities Service Company, on behalf of its operating company affiliates The Connecticut Light and Power Company, Western Massachusetts Electric Company, Public Service Company of New Hampshire and Holyoke Power and Electric Company, and Holyoke Water Power Company; The United Illuminating Company; Fitchburg Gas and Electric Light Company; Unitil Energy Systems, Inc.; Vermont Electric Power Company; Central Vermont Public Service Corporation; Green Mountain Power Corporation and Vermont Electric Cooperative (collectively, the “New England TOs”) and Florida Power & Light Company—New England Division, (collectively with the ISO and the New England TOs, the “Filing Parties”) submitted, pursuant to section 205 of the Federal Power Act: (1) Revisions to the Transmission, Markets and Services Tariff of the ISO, as the regional transmission organization for New England pursuant to the Filing Parties' RTO proposal that was filed with the Commission on October 31, 2003 and conditionally accepted by the Commission on March 24, 2004 and with respect to which, inter alia, the Commission conditionally approved a settlement agreement on November 3, 2004; (2) revisions to the Transmission Operating Agreement among the ISO, the New England TOs, and other Participating Transmission Owners; and (3) revisions to the Rate Design and Funds Disbursement Agreement among the Participating Transmission Owners. Other documents are filed for informational purposes.

Comment Date: 5 p.m. Eastern Time on January 12, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-29 Filed 1-6-05; 8:45 am]

BILLING CODE 6717-01-P